DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Grace Period Study.

Form Number(s): None.

Agency Approval Number: 0651-00xx.

Type of Request: New information collection.

Burden: 71 hours annually.

Number of Respondents: 420 responses per year. Out of a sample size of 3,000, the USPTO estimates that 420 completed surveys will be received, for a response rate of 14%. The USPTO estimates that none of these surveys will be submitted by small entities.

Avg. Hours Per Response: The USPTO estimates that it will take the public approximately 10 minutes (0.17 hours) to complete this survey. This estimated time includes reading the instructions for the survey, gathering the necessary information, completing the survey, and submitting it to the USPTO.

Needs and Uses: The Grace Period Study survey is used by foreign governments, researchers, and other stakeholders to evaluate the effects of premature disclosure of patentable inventions or ideas on researchers' failures to apply for or receive patents. The USPTO will use the survey to gather data to estimate the value of lost commercial opportunities in Europe due to the lack of adequate patent grace periods in many European countries.

Affected Public: Businesses or other for-profits and non-profit institutions.

Frequency: On occasion.

Respondent's Obligation: Voluntary.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-00xx Grace Period Study copy request” in the subject line of the message.

• Mail: Susan K. Fawcett, Records Officer, Office of the Chief Information Officer, United States Patent and Trademark Office, P.O. Box 1450, Alexandria, VA 22313-1450.

Written comments and recommendations for the proposed information collection should be sent on or before June 21, 2013 to Nicholas A. Fraser, OMB Desk Officer, via email to Nicholas_A._Fraser@omb.eop.gov, or by fax to 202-395-5167, marked to the attention of Nicholas A. Fraser.

Dated: May 17, 2013.
Susan K. Fawcett,
Records Officer, USPTO, Office of the Chief Information Officer.

[FR Doc. 2013-12135 Filed 5-21-13; 8:45 am]

BILLING CODE 3510-16-P